DEPARTMENT OF COMMERCE

National Oceanic and Atmospheric Administration

RIN 0648-XC719

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit application contains all of the required information and warrants further consideration and that the activities authorized under this Exempted Fishing Permit would be consistent with the goals and objectives of the Monkfish Fishery Management Plan. However, further review and consultation may be necessary before a final determination is made to issue an Exempted Fishing Permit. The Exempted Fishing Permit would grant exemptions from monkfish days-at-sea possession limits. The primary goal of this study, by the University of Maryland Eastern Shore, is to investigate the influence of temperature on monkfish distribution and abundance.

Regulations under the Magnuson-Stevens Fishery Conservation and Management Act require publication of this notification to provide interested parties the opportunity to comment on applications for proposed Exempted Fishing Permits.

DATES: Comments must be received on or before July 12, 2013.

ADDRESSES: You may submit written comments by any of the following methods:

• Email: nero.efp@noaa.gov. Include in the subject line “Comments on UMES Monkfish RSA EFP.”

• Mail: John K. Bullard, Regional Administrator, NMFS, NE Regional Office, 55 Great Republic Drive, Gloucester, MA 01930. Mark the outside of the envelope “Comments on UMES monkfish RSA EFP.”

• Fax: (978) 281-9135.

FOR FURTHER INFORMATION CONTACT: Jason Berthiaume, Fishery Management Specialist, 978-281-9177.

SUPPLEMENTARY INFORMATION: The University of Maryland Eastern Shore (UMES) submitted a complete application for an Exempted Fishing Permit (EFP) on May 20, 2013, to conduct fishing activities that the regulations would otherwise prohibit. The EFP would exempt vessels from monkfish days-at-sea (DAS) possession limits in the Northern and Southern Monkfish Fishery Management Areas (SFMA). The applicants have identified eight vessels that would conduct monkfish compensation fishing under the requested EFP. Compensation fishing may occur through April 2014, with a possible extension through April 2015.

This study was awarded 99 DAS under the 2013 Monkfish Research Set-Aside (RSA) Program. The primary goal of this study is to investigate the influence of temperature on monkfish distribution and abundance. This study is intended to provide information on the biology of monkfish that could be used to enhance the management of this species. Participating vessels will receive temperature and depth loggers to attach to their gillnets during RSA compensation fishing trips. The loggers would collect temperature and depth at intervals of 1 hour, and would be downloaded approximately every 2 months. Catch data (number and size of monkfish) from panels with probes would be recorded by collaborating fishermen, along with information on location, depth fished, water currents, and lunar cycle. UMES plans to collect histological samples on board the fishing vessels from a subset of trips for analysis of reproductive condition. Weights and length measurements would be taken each trip from a minimum of 25 randomly selected monkfish from the nets with attached temperature probes to gain information about fish distribution. Fishing activity would otherwise be conducted under normal monkfish commercial fishing practices. The vessels would use standard commercial gear and land monkfish for sale.

Monkfish EFPs that waive possession limits were first issued in 2007, and each year thereafter through 2011. The EFPs were approved to increase operational efficiency and to optimize research funds generated from RSA DAS. To ensure that the amount of monkfish harvested by vessels operating under the EFPs was similar to the amount of monkfish that was anticipated to be harvested under the 500 RSA DAS set-aside by the New England and Mid-Atlantic Fishery Management Councils, NOAA's National Marine Fisheries Service associates 3,200 lb (1,451 kg) of whole monkfish per RSA DAS. This amount is double the possession limit of Permit Category A and C vessels fishing in the SFMA. This was deemed a reasonable approximation because it is reflective of how the standard monkfish commercial fishery operates. It is likely that RSA grant recipients would optimize their RSA DAS award by utilizing this possession limit. Therefore, if approved, participating vessels could use up to 99 DAS, or up to 316,800 lb (143,698 kg) of whole monkfish, under the EFP, whichever comes first.

The applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: June 24, 2013.
Kelly Denit,
Acting Deputy Director, Office of Sustainable Fisheries, National Marine Fisheries Service.

[FR Doc. 2013-15480 Filed 6-26-13; 8:45 am]

BILLING CODE 3510-22-P